DEPARTMENT OF ENERGY

Federal Energy Regulatory Commission

[Docket No. RP01-523-000]

Southwest Gas Transmission Company, A Limited Partnership; Notice of Tariff Filing and Change in Annual Charge Adjustment

September 5, 2001.

Take notice that on August 28, 2001, Southwest Gas Transmission Company, A Limited Partnership (SGTC) tendered for filing as part of its FERC Gas Tariff, First Revised Volume No. 2, the following tariff sheet, to become effective October 1, 2001:

Second Revised Sheet No. 4

SGTC states that the purpose of this filing is to revise its annual charge adjustment surcharge in order to recover the Commission's annual charges for the 2001 fiscal year.

SGTC states that it has served copies of its filing on its affected customer and interested state regulatory commission.

Any person desiring to be heard or to protest said filing should file a motion to intervene or a protest with the Federal Energy Regulatory Commission, 888 First Street, NE., Washington, DC 20426, in accordance with Sections 385.214 or 385.211 of the Commission's Rules and Regulations. All such motions or protests must be filed on or before September 12, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22729 Filed 9-10-01; 8:45 am]

BILLING CODE 6717-01-P